DEPARTMENT OF AGRICULTURE

Animal and Plant Health Inspection Service

7 CFR Part 301

[Docket No. APHIS-2007-0157]

Karnal Bunt; Removal of Regulated Areas in Texas

AGENCY: Animal and Plant Health Inspection Service, USDA.

ACTION: Affirmation of interim rule as final rule.

SUMMARY: We are adopting as a final rule, without change, an interim rule that amended the Karnal bunt regulations to remove certain areas or fields in Baylor, Knox, Throckmorton, and Young Counties, TX, from the list of regulated areas based on our determination that those fields or areas meet our criteria for release from regulation. The interim rule was necessary to relieve restrictions that are no longer necessary.

DATES: Effective on September 5, 2008, we are adopting as a final rule the interim rule published at 73 FR 18701-18703 on April 7, 2008.

FOR FURTHER INFORMATION CONTACT: Dr. Matthew H. Royer, Associate Director, Emergency and Domestic Programs, PPQ, APHIS, 4700 River Road Unit 26, Riverdale, MD 20737-1234; (301) 734-7819.

SUPPLEMENTARY INFORMATION:

Background

In an interim rule ¹ effective and published in the Federal Register on April 7, 2008 (73 FR 18701-18703, Docket No. APHIS-2007-0157), we amended the Karnal bunt regulations contained in Subpart-Karnal Bunt (7 CFR 301.78 through 301.78-10) by removing certain areas or fields in Baylor, Knox, Throckmorton, and Young Counties, TX, from the list of regulated areas in § 301.89-3(g). That action was based on our determination that these fields or areas are eligible for release from regulations under the criteria in § 301.89-3(f). The interim rule relieved restrictions on fields within those areas that were no longer necessary.

¹ To view the interim rule and the comment we received, go to http://www.regulations.gov/fdmspublic/component/main?main=DocketDetail&d=APHIS-2007-0157.

Comments on the interim rule were required to be received on or before June 6, 2008. We received one comment by that date, from a State agricultural agency. The commenter supported the action taken in the interim rule. Therefore, for the reasons given in the interim rule, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR Part 301 and that was published at 73 FR 18701-18703 on April 7, 2008.

Done in Washington, DC, this 29th day of August 2008.
Kevin Shea,
Acting Administrator, Animal and Plant Health Inspection Service.

[FR Doc. E8-20622 Filed 9-4-08; 8:45 am]

BILLING CODE 3410-34-P